DEPARTMENT OF COMMERCE

National Oceanic and Atmospheric Administration

RIN 0648-XF975

Caribbean Fishery Management Council; Public Meeting

AGENCY: National Marine Fisheries Service (NMFS), National Oceanic and Atmospheric Administration (NOAA), Commerce.

ACTION: Notice of a public meeting.

SUMMARY: The Caribbean Fishery Management Council's (Council) Scientific and Statistical Committee (SSC) will hold a 5-day meeting in February/March to discuss Action 3 of the Island Based FMP, including the ABC control rule and its application to stock complexes, and the items contained in the agenda in the SUPPLEMENTARY INFORMATION.

DATES: The meeting will be held from February 26 to March 2, 2018, starting on Monday at 1 p.m. through Friday 12 p.m.

ADDRESSES: The meeting will be held at the Council Office, 270 Muñoz Rivera Avenue, Suite 401, San Juan, Puerto Rico.

FOR FURTHER INFORMATION CONTACT: Caribbean Fishery Management Council, 270 Muñoz Rivera Avenue, Suite 401, San Juan, Puerto Rico 00918-1903; telephone: (787) 766-5926.

SUPPLEMENTARY INFORMATION:

—Call to Order

—Adoption of Agenda

—Overview

Review outcomes from previous meeting.

—Action 3: Management Reference Points for Stocks/Stock complexes in each of the Puerto Rico, St. Thomas/St. John and St Croix FMPs

—Tiered ABC Control Rule

—Finalize process for determining the scalars used in Tiered ABC Control Rule

—Finalize process for determining the buffer from the overfishing limit (OFL) to ABC (scientific uncertainty buffer) used in the Tiered ABC Control Rule.

—Finalize choice of scalar and scientific uncertainty buffer for Tiers 4a and 4b for the applicable stocks.

—Application of Acceptable Biological Catch (ABC) Control Rule Language

—Review and Finalize process developed for the application of ABC CR to Tier 4a species with high CVs

—Southeast Fisheries Science Center (SEFSC) options

—Stocks/stock complexes to which the Tiered ABC CR cannot be applied:

—Recommendations on time series of landings data (year sequences) to establish reference points for the applicable stocks/stock complexes.

—Recommendations on the establishment of the maximum sustainable yield proxy (e.g., mean, median, following the Caribbean Annual Catch Limit Amendments' approach) for the applicable stocks/stock complexes.

— Recommendations on the scientific uncertainty buffer to determine the ABC for the applicable stocks/stock complexes.

—Recommendations to the Caribbean Fishery Management Council

—Other Business

The order of business may be adjusted as necessary to accommodate the completion of agenda items. The meeting will begin on February 26, 2018 at 1 p.m. Other than the start time, interested parties should be aware that discussions may start earlier or later than indicated. In addition, the meeting may be extended from, or completed prior to the date established in this notice.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: January 23, 2018.
Tracey L. Thompson,
Acting Deputy Director, Office of Sustainable Fisheries, National Marine Fisheries Service.

[FR Doc. 2018-01427 Filed 1-25-18; 8:45 am]

BILLING CODE 3510-22-P